GENERAL SERVICES ADMINISTRATION

Notice of Intent To Prepare a Supplemental Environmental Impact Statement for the San Ysidro Land Port of Entry (LPOE) Modernization and Expansion Project

AGENCY: General Services Administration (GSA).

ACTION: Notice of intent.

SUMMARY: Pursuant to the requirements of the National Environmental Policy Act of 1969 (NEPA), the Council on Environmental Quality Regulations (40 CFR parts 1500-1508), and the GSA Public Buildings Service NEPA Desk Guide, GSA is issuing this notice to advise the public that a Supplemental Environmental Impact Statement (SEIS) will be prepared for the San Ysidro LPOE Modernization and Expansion Project (Project).

FOR FURTHER INFORMATION CONTACT: Osmahn A. Kadri, NEPA Project Manager, General Services Administration, Pacific Rim Region, at (415) 522-3617. Please also call this number if special assistance is needed to attend and participate in the public scoping meeting.

SUPPLEMENTARY INFORMATION: GSA intends to prepare a SEIS to analyze the potential impacts resulting from proposed modifications and design changes to the San Ysidro LPOE Improvements Project. The San Ysidro LPOE is located along Interstate 5 at the United States-Mexico border in the San Ysidro community of San Diego, California.

Background

A Final Environmental Impact Statement (EIS) and Record of Decision (ROD) were published in September 2009 that addressed the reconfiguration and expansion of the San Ysidro LPOE in three independent construction phases to improve overall capacity and operational efficiency. Phase I is fully funded and included the construction of additional northbound vehicle lanes and inspection facilities, a pedestrian bridge, and a new southbound pedestrian crossing facility on the east side of the LPOE. To date, the pedestrian bridge and southbound crossing facility have been constructed. Phase II would involve the construction of new buildings. Phase III would include construction of a southbound roadway and associated inspection equipment, as well as the addition of a new southbound pedestrian crossing on the west side of the LPOE at Virginia Avenue.

The SEIS will address design changes to Phase III of the project, which include modifications to the number of vehicle lanes on the proposed southbound roadway and the incorporation of northbound pedestrian inspections at the proposed pedestrian crossing facility on the west side of the LPOE.

Alternatives Under Consideration

Two build alternatives and one no build alternative are under consideration. The No Build Alternative assumes that no additional improvements would be constructed at the LPOE, and the LPOE would continue to operate under its current configuration.

Alternative 1 would include the northbound/southbound pedestrian crossing at Virginia Avenue and six southbound vehicular lanes on the proposed southbound roadway that would connect the terminus of Interstate 5 to the El Chaparral LPOE in Mexico.

Alternative 2 would include the northbound/southbound pedestrian crossing facility and 10 southbound vehicle lanes on the proposed southbound roadway.

Scoping Process

Scoping will be accomplished through a public scoping meeting, direct mail correspondence to appropriate federal, state, and local agencies, and to private organizations and citizens who have previously expressed or are known to have an interest in the Project. A public scoping meeting will be held on Thursday, May 9, 2013 from 4:30 p.m. to 7:30 p.m. at The Front, 147 West San Ysidro Boulevard, San Ysidro, CA 92173. The meeting will be an informal open house, where visitors may come, receive information, and provide written comments. Agencies and the public are encouraged to provide written comments regarding the scope of the SEIS. Written comments must be received by June 9, 2013, and sent to the General Services Administration, Attention: Osmahn Kadri, NEPA Project Manager, 450 Golden Gate Avenue, 3rd Floor East, San Francisco, CA 94102, or via email to osmahn.kadri@gsa.gov.

Dated: April 19, 2013.
Matthew Jear,
Director, Portfolio Management Division, Pacific Rim Region, Public Buildings Service.

[FR Doc. 2013-09816 Filed 4-30-13; 8:45 am]

BILLING CODE 6820-YF-P